NATIONAL SCIENCE FOUNDATION

Advisory Panel for Methods, Cross-Directorate, and Science and Society Programs; Notice of Meeting

In accordance with the Federal Advisory Committee Act (Pub. L. 92-463, as amended), the National Science Foundation (NSF) announces the following meetings of the COV Advisory Panel for Infrastructure, Methods & Science Studies (#1760):

Date and Time: November 13-14, 2000.

Rooms: 309/209 Maingate Building-Tucson, Arizona.

Place: University of Arizona.

Contact Person: Dr. Rachelle Hollander, Program Director for SDEST, National Science Foundation, 4201 Wilson Boulevard, Arlington, VA 22230. Telephone: (703) 292-8763.

Agenda: To review and evaluate SDEST proposals as part of the selection process for awards.

Date & Time: October 27-28, 2000.

Place: National Science Foundation, 4201 Wilson Blvd, Room 310, Arlington, VA.

Contact Person: Dr. Bruce Seely, Program Director for Science & Technology Studies, National Science Foundation, 4201 Wilson Boulevard, Arlington, VA 22230. Telephone: (703) 292-8763.

Agenda: To review and evaluate STS proposals as part of the selection process for awards.

Date & Time: December 1, 2000.

Place: National Science Foundation, 4201 Wilson Blvd, Room 370, Arlington, VA.

Contact Person: Dr. Cheryl L. Eavey, Program Director for Methods, Measurement & Statistics, National Science Foundation, 4201 Wilson Boulevard, Arlington, VA 22230. Telephone: (703) 292-8763.

Agenda: To review and evaluate MMS proposals as part of the selection process for awards.

Types of Meetings: Closed.

Purpose of Meeting: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c), (4) and (6) of the Government in the Sunshine Act.

Dated: October 10, 2000.
Karen J. York,
Committee Management Officer.

[FR Doc. 00-26320 Filed 10-12-00; 8:45 am]

BILLING CODE 7555-01-M